SMALL BUSINESS ADMINISTRATION

Revocation of License of Small Business Investment Company

Pursuant to the authority granted to the United States Small Business Administration by the Final Order of the United States District Court for Rhode Island, entered April 8, 2015, the United States Small Business Administration hereby revokes the license of Fairway Capital Corporation, a Rhode Island Corporation, to function as a small business investment company under the Small Business Investment Company License No. 01010353 issued to Fairway Capital Corporation, on January 31, 1990, and said license is hereby declared null and void as of April 8, 2015.

United States Small Business Administration.
Dated: July 5, 2015.
Javier E. Saade,
Associate Administrator for Investment.

[FR Doc. 2015-18183 Filed 7-23-15; 8:45 am]

BILLING CODE 8025-01-P